DEPARTMENT OF THE INTERIOR

Fish and Wildlife Service

[FWS-R8-ES-2013-N224; FXES11130800000-134-FF08E00000]

Endangered and Threatened Species; Permits Issued

AGENCY: Fish and Wildlife Service, Interior.

ACTION: Notice of issuance of permits.

DATES: The permit issuance dates are under SUPPLEMENTARY INFORMATION.

SUMMARY: We, the U.S. Fish and Wildlife Service, have issued the following permits to conduct certain activities with endangered species under the authority of the Endangered Species Act, as amended (Act). With some exceptions, the Act prohibits activities with listed species unless a Federal permit is issued that allows such activity.

FOR FURTHER INFORMATION CONTACT: Mr. Daniel Marquez, U.S. Fish and Wildlife Service, Region 8, 2800 Cottage Way, Room W-2606, Sacramento, CA 95825; 760-431-9440 (telephone); or daniel_marquez@fws.gov (email).

SUPPLEMENTARY INFORMATION: We have issued the following permits in response to recovery permit applications we received under the authority of section 10 of the Act, as amended (16 U.S.C. 1531 et seq.). We provide this notice under section 10(c) of the Act. Each permit listed below was issued only after we determined that it was applied for in good faith; that granting the permit would not be to the disadvantage of the listed species; and that the terms and conditions of the permit were consistent with purposes and policy set forth in the Act.

Applicant name | Permit No. | Date issued | Expiration date
BIO-WEST, INCORPORATED | 809232 | 1/24/13 | 3/31/15
KUS, BARBARA E. | 829554 | 3/29/13 | 5/30/15
AECOM | 820658 | 2/22/13 | 6/20/15
MANTECH SRS TECHNOLOGIES INC. | 097845 | 3/22/13 | 3/7/16
POINT REYES BIRD OBSERVATORY | 807078 | 3/8/13 | 3/7/16
FOURNIER, JOELLE J | 213726 | 3/22/13 | 3/21/16
FAMOLARO, PETER C | 813431 | 4/5/13 | 4/4/16
BARRINGER, DEBRA S | 89964A | 4/12/13 | 4/11/16
AMALONG, MATTHEW L | 89998A | 5/3/13 | 5/2/16
TAYLOR, JARED P | 91235A | 5/3/13 | 5/2/16
THE CENTER FOR NATURAL LANDS MANAGEMENT | 221411 | 4/12/13 | 10/10/16
BERKLEY, JASON L | 009015 | 3/22/13 | 3/21/17
LSA ASSOCIATES, INC. | 777965 | 3/22/13 | 3/21/17
KLEIN, MICHAEL W. | 039305 | 4/5/13 | 4/4/17
KAMADA, DANA K. | 799568 | 5/3/13 | 5/2/17
PRIEST, JEFFREY D. | 840619 | 5/3/13 | 5/2/17
JAMES, ROBERT A. | 003269 | 6/28/13 | 6/27/17
HOUSE, DEBORAH J. | 844027 | 2/1/13 | 1/31/16
NERHUS, BARRY S | 74785A | 2/1/13 | 1/31/16
STRAUSS, EMILIE A. | 227263 | 2/1/13 | 1/31/16
AVOCET RESEARCH ASSOCIATES | 786728 | 2/8/13 | 2/7/16
EAST BAY ZOOLOGICAL SOCIETY | 85448A | 4/5/13 | 4/4/16
SHANAHAN, SETH A | 231424 | 4/5/13 | 4/4/16
LIU, LEONARD Y | 94998A | 5/3/13 | 5/2/16
KENDRICK, JENNIFER L | 76732A | 5/31/13 | 5/30/16
MUDRY, NATHAN WAYNE | 89496A | 5/31/13 | 5/30/16
WHITTALL, JUSTEN BRYANT | 195891 | 3/15/13 | 3/14/17
SAN DIEGO NATURAL HISTORY MUSEUM | 75988A | 3/22/13 | 3/21/17
CREEKSIDE CENTER FOR EARTH OBSERVATION | 30659A | 2/22/13 | 2/6/15
POWER ENGINEERS, INC. | 64546A | 6/28/13 | 8/16/15
ODELL, MELISSA C | 56889A | 4/5/13 | 3/8/16
PATTON, ROBERT T. | 789255 | 4/5/13 | 4/4/16
TATARIAN, PATRICIA J. | 802089 | 1/8/13 | 1/7/17
SHAFFER, HOWARD BRADLEY | 094642 | 1/16/13 | 1/15/17
WOLFF, DAVID K. | 090849 | 1/25/13 | 1/24/17
SANTA BARBARA ZOOLOGICAL FOUNDATION | 79454A | 2/1/13 | 1/31/17
CHRISTOPHER, SUSAN V. | 058073 | 2/8/13 | 2/7/17
INNECKEN, SHIRLEY M | 82480A | 2/8/13 | 2/7/17
WONG, TODD J | 90002A | 2/8/13 | 2/7/17
ROSSI, AVIVA J | 80553A | 3/8/13 | 3/7/17
WITHAM, CAROL W. | 799570 | 3/8/13 | 3/7/17
UNIVERSITY OF CALIFORNIA SACRAMENTO | 192702 | 3/15/13 | 3/14/17
ROSS, LAUREN ELIZABETH | 78621A | 3/22/13 | 3/21/17
GIBSON & SKORDAL | 795935 | 3/29/13 | 3/27/17
BROWN, RYAN M | 90000A | 3/28/13 | 3/28/17
FARMER, MICHAEL J. | 195304 | 3/29/13 | 3/28/17
TEMPLE, DANIELLE LOLENE | 85424A | 3/29/13 | 3/28/17
MONK & ASSOCIATES INCORPORATED | 776608 | 4/5/13 | 4/4/17
EICH, INGRID I. | 092469 | 4/12/13 | 4/11/17
CALIFORNIA DEPT OF WATER RESOURCES | 835365 | 4/26/13 | 4/25/17
ROGERS, DAVID CHRISTOPHER | 796284 | 4/25/13 | 4/25/17
WILKERSON, CULLEN A. | 179036 | 5/3/13 | 5/2/17
VOLLMAR NATURAL LANDS CONSULTING | 035336 | 5/31/13 | 5/30/17
STOKES, DREW CRANDALL | 168927 | 6/28/13 | 6/27/17
MORRISON, MICHAEL L. | 797315 | 6/28/13 | 6/27/17
BRUNGRABER, CAESARA WENDIN | 14231A | 2/8/13 | 8/25/14
DUNN, CINDY MARCELLA | 29658A | 3/29/13 | 2/6/15
UNIVERSITY OF ARIZONA | 086593 | 1/25/13 | 1/24/17
PUGH, DALLAS RYAN | 79192A | 2/1/13 | 1/31/17
HENRY, RACHEL | 82483A | 2/8/13 | 2/7/17
FAULKNER, DAVID K. | 838743 | 2/22/13 | 2/21/17
SEAY, STEPHANIE M | 170528 | 3/15/13 | 3/14/17
DICUS, JOHN W. | 839960 | 4/5/13 | 4/4/17
HAGAR ENVIRONMENTAL SCIENCE | 089980 | 4/12/13 | 4/11/17
OBERHOFF, DWAYNE N. | 180579 | 4/12/13 | 4/11/17
BUREAU OF LAND MANAGMENT, HOLLISTER FIELD OFFICE | 166383 | 5/3/13 | 5/2/17
USFWS-STOCKTON FWO | 188803 | 5/31/13 | 12/31/15

Availability of Documents

Documents and other information submitted with these applications are available for review, subject to the requirements of the Privacy Act and Freedom of Information Act, by any party who submits a written request for a copy of such documents to Daniel Marquez (see FOR FURTHER INFORMATION CONTACT).

Authority: The authority for this notice is the Endangered Species Act of 1973, as amended (16 U.S.C. 1531 et seq.).

Michael Long
Acting Regional Director, Pacific Southwest Region, Sacramento, California.

[FR Doc. 2013-25690 Filed 10-29-13; 8:45 am]

BILLING CODE 4310-55-P